DEPARTMENT OF TRANSPORTATION

Federal Aviation Administration

14 CFR Part 39

[Docket No. FAA-2004-18593; Directorate Identifier 2004-NM-21-AD; Amendment 39-13875; AD 2004-23-20]

RIN 2120-AA64

Airworthiness Directives; Airbus Model A300 B2, A300 B4, A300 B4-600, and A300 B4-600R Series Airplanes; and Model A300 C4-605R Variant F and A300 F4-605R Airplanes

AGENCY: Federal Aviation Administration (FAA), DOT.

ACTION: Final rule.

SUMMARY: The FAA is superseding an existing airworthiness directive (AD) that applies to all Airbus Model A300 B4-601, A300 B4-603, A300 B4-620, A300 B4-605R, A300 B4-622R, and A300 F4-605R airplanes. That AD currently requires repetitive inspections for cracking in the area surrounding certain fuselage attachment holes, installation of new fasteners for certain airplanes, and certain follow-on corrective actions if necessary. This new AD requires modifying certain fuselage frames, which would terminate certain repetitive inspections. This AD also adds airplanes to the applicability. This AD is prompted by the development of a modification intended to prevent cracking of the center section of the fuselage, which could result in a ruptured frame foot and reduced structural integrity of the airplane.

DATES: This AD becomes effective January 3, 2005.

The incorporation by reference of Airbus Service Bulletin A300-53-0271, Revision 03, dated June 13, 2003; and Airbus Service Bulletin A300-53-6125, Revision 01, dated June 13, 2003; as listed in the AD, is approved by the Director of the Federal Register as of January 3, 2005.

On May 7, 2001 (66 FR 17490, April 2, 2001), the Director of the Federal Register approved the incorporation by reference of Airbus Service Bulletin A300-53-6122, dated February 9, 2000.

ADDRESSES: For service information identified in this AD, contact Airbus, 1 Rond Point Maurice Bellonte, 31707 Blagnac Cedex, France. You can examine this information at the National Archives and Records Administration (NARA). For information on the availability of this material at NARA, call (202) 741-6030, or go to http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC.

FOR FURTHER INFORMATION CONTACT: Technical information: Dan Rodina, Aerospace Engineer, International Branch, ANM-116, Transport Airplane Directorate, 1601 Lind Avenue, SW., Renton, Washington 98055-4056; telephone (425) 227-2125; fax (425) 227-1149.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend part 39 of the Federal Aviation Regulations (14 CFR part 39) with an AD to supersede AD 2001-06-10, amendment 39-12157 (66 FR 17490, April 2, 2001). The existing AD applies to all Airbus Model A300 B4-601, A300 B4-603, A300 B4-620, A300 B4-605R, A300 B4-622R, and A300 F4-605R airplanes. The proposed AD, published in the Federal Register on July 16, 2004 (69 FR 42612), would require modifying certain fuselage frames, which would terminate certain repetitive inspections, and add airplanes to the applicability.

Comments

We provided the public the opportunity to participate in the development of this AD. We have considered the comments that have been submitted on the proposed AD.

Request To Clarify Grace Period

One commenter requests that we clarify the grace period specified in paragraph (i) of the proposed AD, specifically regarding the following sentence:

For airplanes that have exceeded the specified threshold, this AD requires compliance within the earlier of the flight-cycle and flight-hour grace periods specified in the service bulletin.

The commenter states that this language could be confusing. In Note (01), paragraph 1.E.(2)(b) (“COMPLIANCE”), of Airbus Service Bulletins A300-53-0271 and A300-53-6125, the grace period is described in terms of flight hours and flight cycles only for airplanes that have exceeded their “design service goal” (DSG). For airplanes that have exceeded the “threshold” but not their DSG, the service bulletins (in Note (02)) describe the grace period as the earlier of accomplishment of two service bulletins required by related AD 96-13-11, amendment 39-9679 (61 FR 35122, July 5, 1996).

We partially agree. For airplanes above their DSG, NOTE (01) specifies the imprecise grace period “3,300FC/3700FH for B2, 2900FC/3900FH for B4-100 and 2,200FC/4500FH for B4-200.” We added the sentence quoted by the commenter only to specify that the grace period must be determined by the earlier of the flight-hour and flight-cycle values. While “design service goal” might have been more precise than “threshold” in this context, we referred to these two terms collectively as “the specified threshold” to clarify the compliance-time conditions of the service bulletins. We have revised paragraph (i) of this final rule to clarify the method for determining the appropriate grace period.

Request To Add Service Bulletin Reference

One commenter requests that we revise Table 1 of the proposed AD to add Airbus Service Bulletin A300-53-6122. The commenter provides no further explanation.

We find that clarification of Table 1 is necessary. Table 1 identifies the service bulletin references for the requirements of paragraph (i) of this AD. Service Bulletin A300-53-6122 is the reference for the requirements of paragraphs (f) and (g) of this AD. That service bulletin does not provide information relevant to Table 1. We have not changed the final rule regarding this issue.

Request To Approve Future Service Information

One commenter requests that we revise the proposed AD to indicate that any approved revisions of the identified service bulletins are acceptable, as stated in the parallel French airworthiness directives F-224-001 and F-224-002, both dated January 7, 2004.

We cannot accept as-yet unpublished service documents for compliance with the requirements of an AD. Referring to an unavailable service bulletin in an AD violates Office of the Federal Register regulations for approving materials that are incorporated by reference. We have not changed the final rule regarding this issue. However, under the provisions of paragraph (k)(1) of this final rule, affected operators may request approval to use a later revision of the referenced service bulletin as an alternative method of compliance (AMOC).

Request To Clarify Repair Approval

One commenter requests that we revise paragraphs (j) and (k) of the proposed AD to clarify the acceptability of DGAC-or Airbus-approved repairs. The commenter points out that such explicit approval would eliminate the processing time and work duplication for requests for AMOCs if an approval by DGAC or its agent is available. We infer that the commenter is requesting that paragraph (k) of this AD provide explicit approval of repairs done in accordance with a method approved by the DGAC, as specified in paragraph (j) of this AD.

We do not agree. We cannot allow operators to contact the manufacturer for repair instructions; to do so would be delegating our rulemaking authority to the manufacturer. Furthermore, we do not agree that clarification is necessary regarding approvals for repairs specified in paragraph (j) of this AD, which specifically allows repair approval by the DGAC or its delegated agent. Concerning paragraph (k) of this AD, AMOCs must be approved by the FAA.

Request To Approve Alternative Materials

One commenter reports that the oversize fasteners (specified in Airbus Service Bulletins A300-53-0271 and A300-53-6125) may be difficult to obtain. The commenter therefore requests that we revise the proposed AD to approve use of the alternative substitute fasteners listed in the Airbus Structural Repair Manual (SRM) or the Airbus Process and Materials Specification Manual.

We do not find it necessary to revise the AD regarding this issue. Because the service bulletins refer to the appropriate sections of the applicable Airbus SRM, the specific substitute parts listed in the SRM are considered acceptable for any repair or modification required by this AD.

Conclusion

We have carefully reviewed the available data, including the comments that have been submitted, and determined that air safety and the public interest require adopting the AD with the changes described previously. We have determined that these changes will neither increase the economic burden on any operator nor increase the scope of the AD.

Costs of Compliance

The following table provides the estimated costs for U.S. operators to comply with this AD:

Estimated Costs
Action | Model | Work hours | Labor rate per hour | Parts cost | Cost per airplane | Number of U.S.-registered airplanes | Fleet cost
Inspection | A300-600 | 6 | $65 | None required | $390, per inspection | 106 | $41,340, per inspection.
Modification | A300 | 90 | 65 | 2,000 | 7,850 | 24 | 188,400.
Modification | A300-600 | 56 | 65 | 4,000 | 7,640 | 106 | 809,840.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-23-20 Airbus: Amendment 39-13875. Docket No. FAA-2004-18593; Directorate Identifier 2004-NM-21-AD.

Effective Date

(a) This AD becomes effective January 3, 2005.

Affected ADs

(b) This AD supersedes AD 2001-06-10, amendment 39-12157. Paragraph (i) of this AD terminates certain requirements of AD 96-13-11, amendment 39-9679.

Applicability

(c) This AD applies to all Airbus Model A300 B2, A300 B4, A300 B4-600, and A300 B4-600R series airplanes; and all Airbus Model A300 C4-605R Variant F and A300 F4-605R airplanes; certificated in any category; except those airplanes modified by Airbus Modification 12168.

Unsafe Condition

(d) This AD was prompted by the development of a modification intended to prevent cracking of the center section of the fuselage, which could result in a ruptured frame foot and reduced structural integrity of the airplane.

Compliance

(e) You are responsible for having the actions required by this AD performed within the compliance times specified, unless the actions have already been done.

Restatement of Certain Requirements of AD 2001-06-10

Inspections

(f) For Model A300 B4-600 and A300 B4-600R series airplanes, and Model A300 C4-605R Variant F and A300 F4-605R airplanes: Perform a high-frequency eddy-current or rototest inspection to detect cracking in the area surrounding the frame feet attachment holes between fuselage frames (FR) 41 and FR46 from stringers 24 to 28, left- and right-hand sides, in accordance with Airbus Service Bulletin A300-53-6122, dated February 9, 2000, at the time specified in paragraph (f)(1) or (f)(2), as applicable.

(1) For airplanes on which Task 53-15-54 in Maintenance Review Board Document (MRBD), Revision 3, dated April 1998, has not been accomplished as of May 7, 2001 (the effective date of AD 2001-06-10): Perform the inspection at the later of the times specified in paragraphs (f)(1)(i) and (f)(1)(ii) of this AD.

(i) Prior to the accumulation of the total flight-cycle or flight-hour threshold, whichever occurs first, specified in paragraph 1.E. (“Compliance”) of the service bulletin; or

(ii) Within the applicable grace period specified in paragraph 1.E. (“Compliance”) of the service bulletin.

(2) For airplanes on which Task 53-15-54 in the MRBD, Revision 3, dated April 1998, has been accomplished as of May 7, 2001: Perform the next repetitive inspection at the later of the times specified in paragraphs (f)(2)(i) and (f)(2)(ii) of this AD.

(i) Within the flight-cycle or flight-hour interval, whichever occurs first, specified in paragraph 1.E. (“Compliance”) of the service bulletin, following the latest inspection accomplished in accordance with the MRBD; or

(ii) Within the grace period specified in paragraph 1.E. (“Compliance”) of the service bulletin.

(g) For airplanes on which no cracking is detected during the inspection required by paragraph (f) of this AD, prior to further flight, install new fasteners as applicable, in accordance with Airbus Service Bulletin A300-53-6122, dated February 9, 2000; and repeat the inspection required by paragraph (f) of this AD thereafter at intervals not to exceed the applicable intervals specified in paragraph 1.E. (“Compliance”) of the service bulletin, until the actions required by paragraph (i) of this AD have been done.

Corrective Actions

(h) For airplanes on which cracking is detected during any inspection required by paragraph (f) of this AD: Prior to further flight, except as required by paragraph (j) of this AD, accomplish corrective actions (e.g., performing rotating probe inspections, reaming out cracks, cold working fastener holes, and installing oversized fasteners) in accordance with Airbus Service Bulletin A300-53-6122, dated February 9, 2000. Repeat the inspection required by paragraph (f) of this AD thereafter at intervals not to exceed the applicable intervals specified in paragraph 1.E. (“Compliance”) of the service bulletin, until the actions required by paragraph (i) of this AD have been done.

New Requirements of This AD

Modification: All Airplanes

(i) For all airplanes: Within the compliance times specified in paragraph 1.E. of the applicable service bulletin listed in Table 1 of this AD, modify the fuselage frames in accordance with the Accomplishment Instructions of the applicable service bulletin. For airplanes that have exceeded their design service goal, as specified in NOTE (01) of paragraph 1.E. of the service bulletin, this AD requires compliance within the earlier of the flight-cycle and flight-hour grace periods specified in the service bulletin.

Table 1.—Service Information
Airplane model | Airbus service bulletin | Required revision level | Revision level(s) also acceptable for compliance if done before the effective date of this AD
A300 B2 and A300 B4 series airplanes | A300-53-0271 | Revision 03, dated June 13, 2003 | Original, dated September 10, 1991. Revision 01, dated February 16, 1993. Revision 02, dated July 13, 2000.
A300 B4-600 and A300 B4-600R series airplanes, and A300 C4-605 Variant F and A300 F4-605R airplanes | A300-53-6125 | Revision 01, dated June 13, 2003 | Original, dated November 8, 2000.

(1) For the affected Model A300 B4-600 series airplanes: Accomplishment of the modification terminates the requirements of this AD.

(2) For Model A300 B2 and A300 B4 series airplanes: Accomplishment of the modification terminates certain repetitive inspections required by AD 96-13-11, i.e., inspections of the frame feet holes for frames 41 to 46 (as specified in Airbus Service Bulletin A300-53-0345) and frames 48 to 54 (as specified in Airbus Service Bulletin A300-53-238). However, the repetitive inspections of the frame foot angle radius (as specified in Service Bulletin A300-53-238), which are required by AD 96-13-11, must continue.

Exceptions to Service Bulletin Procedures

(j) During any inspection required by this AD, if the applicable service bulletin specifies to contact the manufacturer for appropriate instructions: Before further flight, perform applicable corrective action in accordance with a method approved by the Manager, International Branch, ANM-116, Transport Airplane Directorate, FAA; or the Direction Generale de l'Aviation Civile (DGAC) (or its delegated agent).

Alternative Methods of Compliance

(k)(1) The Manager, International Branch, ANM-116, has the authority to approve alternative methods of compliance (AMOCs) for this AD, if requested in accordance with the procedures found in 14 CFR 39.19.

(2) AMOCs approved previously in accordance with AD 2001-06-10, amendment 39-12157, are approved as AMOCs with the corresponding requirements of this AD.

Related Information

(l) French airworthiness directives F-2004-001 and F-2004-002, both dated January 7, 2004, also address the subject of this AD.

Material Incorporated by Reference

(m) Unless the AD specifies otherwise, you must use the service information that is specified in Table 2 of this AD to perform the actions that are required by this AD, as applicable.

Table 2.—Material Incorporated by Reference
Service bulletin | Revision level | Date
Airbus Service Bulletin A300-53-0271 | 03 | June 13, 2003.
Airbus Service Bulletin A300-53-6122 | Original | February 9, 2000.
Airbus Service Bulletin A300-53-6125 | 01 | June 13, 2003.

(1) The incorporation by reference of Airbus Service Bulletin A300-53-0271, Revision 03, dated June 13, 2003; and Airbus Service Bulletin A300-53-6125, Revision 01, dated June 13, 2003; is approved by the Director of the Federal Register in accordance with 5 U.S.C. 552(a) and 1 CFR part 51.

(2) On May 7, 2001 (66 FR 17490, April 2, 2001), the Director of the Federal Register approved the incorporation by reference of Airbus Service Bulletin A300-53-6122, dated February 9, 2000.

(3) For copies of the service information, contact Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Issued in Renton, Washington, on November 10, 2004.
Ali Bahrami,
Manager, Transport Airplane Directorate, Aircraft Certification Service.

[FR Doc. 04-25785 Filed 11-24-04; 8:45 am]

BILLING CODE 4910-13-P